DEPARTMENT OF THE INTERIOR

Fish and Wildlife Service

Intent To Prepare Combined Comprehensive Conservation Plan and Associated Environmental Document for 39 Easement Refuges Located in North Dakota

AGENCY: Fish and Wildlife Service, Interior.

ACTION: Notice of intent.

SUMMARY: The U.S Fish and Wildlife Service (Service) intends to gather information necessary to prepare a Comprehensive Conservation Plan and associated environmental documents for the following 39 easement national wildlife refuges (NWR): Half Way Lake NWR, Stutsman County; Ardoch NWR, Walsh County; Buffalo Lake NWR, Pierce County; Hobart Lake NWR, Barnes County; Stoney Slough NWR, Barnes County; Tomahawk NWR, Barnes County; Camp Lake NWR, McLean County; Hiddenwood NWR, McLean County; Lake Otis NWR, McLean County; Lost Lake NWR, McLean County; Cottonwood NWR, McHenry County; Wintering River NWR, McHenry County; Johnson Lake NWR, Eddy County; Brumba NWR, Towner County; Rock Lake NWR, Towner County; Snyder Lake NWR, Towner County; Sibley Lake NWR, Griggs County; Little Goose NWR, Grand Forks County; Canfield Lake NWR, Burleigh County; Lambs Lake NWR, Nelson County; Rose Lake NWR, Nelson County; Lake Patricia NWR, Morton County; Pretty Rock NWR, Grant County; Sheyenne Lake NWR, Sheridan County; Silver Lake NWR, Ramsey/Benson Counties; Pleasant Lake NWR, Benson County; Wood Lake NWR, Benson County; Hutchinson Lake NWR, Kidder County; Lake George NWR, Kidder County; Lords Lake NWR, Bottineau/Rolette Counties; Rabb Lake NWR, Rolette County; School Section Lake NWR, Rolette County; Willow Lake NWR, Rolette County; Bone Hill NWR, LaMoure County; Dakota Lake NWR, Dickey County; Maple River NWR, Dickey County; Appert Lake NWR, Emmons County; Springwater NWR, Emmons County; and Sunburst Lake NWR, Emmons County. These 39 refuges are located primarily throughout eastern North Dakota and are individually managed by Arrowwood, Audubon, Devils Lake, J. Clark Salyer, Kulm, and Long Lake Complex's. The Service is issuing this notice in compliance with its policy to advise other organizations and the public of its intentions and to obtain suggestions and information on the scope of issues to be considered in the planning process.

DATES: Written comments should be received by September 30, 2004.

ADDRESSES: Comments and requests for more information should be sent to: Laura King, Planning Team Leader, and P.O. Box 25486, Denver Federal Center, Denver, CO 80225-0486. The fax number is 303/236-4792 and e-mail is laura_king@fws.gov.

FOR FURTHER INFORMATION CONTACT: Laura King, Planning Team Leader, P.O. Box 25486, Denver Federal Center, Denver, CO 80225-0486. The fax number is 303/236-4792 and e-mail is laura_king@fws.gov.

SUPPLEMENTARY INFORMATION: The Service has initiated comprehensive conservation planning for the above listed 39 national wildlife refuges for the conservation and enhancement of their natural resources. These Refuges are unique in that they are primarily comprised of private lands covered by refuge and flowage easements acquired for $1.00 in the mid-1930s as water conservation and wildlife preservation projects. In the late 1930s, 31 of these easement lands were later combined and designated as national wildlife refuges by President Franklin D. Roosevelt through Executive Order for the purpose of ” * * * refuge[s] and breeding ground[s] for migratory birds and other wildlife * * *.” Seven other refuges were established in 1948, under the authority of the precursor to the Fish and Wildlife Coordination Act, while the final refuge, Lake Otis, was establish in the early 1970s as ” * * * an inviolate sanctuary for migratory birds. * * *” Combined, these refuges encompass 46,935 acres, ranging in size from 160 acres (Half Way Lake) to 5,506 acres (Rock Lake).

During the comprehensive planning process, management goals, objectives, and strategies will be developed to carry out the purposes of the refuges and to comply with laws and policies governing refuge management and public use of refuges. As these are private lands, most of these refuges are primarily closed to public uses. Opportunities for public input will be provided at various public meetings planned for the summer of 2004. Exact dates and times for these public meetings are yet to be determined, but will be announced via local media.

All information provided voluntarily by mail, phone, or at public meetings (e.g., names, addresses, letters of comment, input recorded during meetings) becomes part of the official public record. If requested under the Freedom of Information Act by a private citizen or organization, the Service may provide copies of such information.

The environmental review of this project will be conducted in accordance with the requirements of the National Environmental Policy Act of 1969, as amended (42 U.S.C. 4321 et seq.), NEPA Regulations (40 CFR parts 1500-1508), other appropriate Federal laws and regulations, Executive Order 12996, the National Wildlife Refuge System Improvement Act of 1997, and Service policies and procedures for compliance with those regulations.

Dated: May 19, 2004.
John A. Blankenship,
Deputy Regional Director, Denver, Colorado.

[FR Doc. 04-15064 Filed 7-1-04; 8:45 am]

BILLING CODE 4310-55-P